DEPARTMENT OF HOMELAND SECURITY

U.S. Immigration and Customs Enforcement

[OMB Control Number 1653-0034]

Agency Information Collection Activities; Extension, Without Change, of a Currently Approved Collection: Form No. I-901; Fee Remittance for Certain F, J and M Nonimmigrants

AGENCY: U.S. Immigration and Customs Enforcement, Department of Homeland Security.

ACTION: 60-Day notice.

SUMMARY: In accordance with the Paperwork Reduction Act (PRA) of 1995, the Department of Homeland Security (DHS), U.S. Immigration and Customs Enforcement (ICE) will submit the following Information Collection Request (ICR) to the Office of Management and Budget (OMB) for review and clearance.

DATES: Comments are encouraged and will be accepted until August 1, 2025.

ADDRESSES: All submissions received must include the OMB Control Number 1653-0034 in the body of the correspondence, the agency name, and Docket ID ICEB-2007-0002-0001. All comments received will be posted without change to http://www.regulations.gov, including any personal information provided.

(1) Online. Submit comments via the Federal eRulemaking Portal website at http://www.regulations.gov under e-Docket ID number ICEB-2007-0002-0001.

FOR FURTHER INFORMATION CONTACT: If you have questions related to this collection, call or email Sharon Snyder, Student and Exchange Visitor Program (SEVP), 703-603-3400 or 1-800-892-4829, email: sevp@ice.dhs.gov.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, Without Change, of a Currently Approved Collection.

(2) Title of the Form/Collection: Fee Remittance for Certain F, J and M Nonimmigrants.

(3) Agency form number, if any, and the applicable component of the Department of Homeland Security sponsoring the collection: Form I-901; U.S. Immigration and Customs Enforcement.

(4) Affected public who will be asked or required to respond, as well as a brief abstract: Primary: Individuals or households. This information collection is necessary to implement section 641 of IIRIRA, 8 U.S.C. section1372, which directs DHS to collect information relating to academic nonimmigrant students (F-1), vocational nonimmigrant students (M-1), and exchange visitors (J-1), as well as their dependents (F-2, M-2, or J-2), and provides for the collection of the required fee to defray the costs of this program. Section 641 of IIRIRA requires DHS to collect current information, on an ongoing basis, from schools and exchange visitor program sponsors relating to F, J, and M nonimmigrants during their stay in the United States, using electronic reporting technology to the fullest extent practicable. SEVP implemented the Student and Exchange Visitor Information System (SEVIS) to carry out this statutory requirement. SEVP used the Form I-901, Fee Remittance for Certain F, J and M Nonimmigrants, to provide a receipt to the F, J, or M nonimmigrant upon payment and to positively identify that a particular F, J, or M nonimmigrant has paid the fee.

(5) An estimate of the total number of respondents and the amount of time estimated for an average respondent to respond: 902,586 responses at 13 minutes (0.216 hours) per response.

(6) An estimate of the total public burden (in hours) associated with the collection: 194,959 annual burden hours.

Dated: May 28, 2025.
Scott Elmore,
PRA Clearance Officer.

[FR Doc. 2025-09867 Filed 5-30-25; 8:45 am]

BILLING CODE 9111-28-P